DEPARTMENT OF AGRICULTURE

Forest Service

National Advisory Committee for Implementation of the National Forest System Land Management Planning Rule

AGENCY: Forest Service, USDA.

ACTION: Notice of meetings.

SUMMARY: The National Advisory Committee for Implementation of the National Forest System Land Management Planning Rule Committee (Committee) will meet in Arlington, VA. Attendees may also participate via webinar and conference call. The Committee operates in compliance with the Federal Advisory Committee Act (FACA) (Pub. L. 92-463). Additional information relating to the Committee can be found by visiting the Committee's Web site at: http://www.fs.usda.gov/main/planningrule/committee.

DATES: The meetings will be held, in-person and via webinar/conference call on the following dates and times:

• Tuesday, September 30, 2014 from 9:00 a.m. to 5:00 p.m. EST

• Wednesday, October 1, 2014 from 9:00 a.m. to 5:00 p.m. EST

• Thursday, October 2, 2014 from 9:00 a.m. to 3:00 p.m. EST

ADDRESSES: The meetings will be located at the Sheraton Pentagon City, 900 S Orme St., Arlington, VA. For anyone who would like to attend via webinar and/or conference call, please visit the Web site listed above or contact the person listed in the section titled FOR FURTHER INFORMATION CONTACT. Written comments must be sent to USDA Forest Service, Ecosystem Management Coordination, 201 14th Street SW., Mail Stop 1104, Washington, DC 20250-1104. Comments may also be sent via email to Jennifer Helwig at jahelwig@fs.fed.us.

All comments are placed in the record and are available for public inspection and copying, including names and addresses when provided. The public may inspect comments received at the USDA Forest Service Washington Office—Yates Building. Please call ahead to facilitate entry into the building.

FOR FURTHER INFORMATION CONTACT: Jennifer Helwig, Committee Coordinator by phone at 202-205-0892 or email at jahelwig@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to provide ongoing advice and recommendations on implementation of the planning rule. This meeting is open to the public.

The following business will be conducted:

1. Discussion of Committee scope of work for the next two years

2. Discussion of Committee work groups

3. Administrative tasks

The agenda and a summary of the meeting will be posted on the Committee's Web site within 21 days of the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 11, 2014.
Brian Ferebee,
Acting Associate Deputy Chief, National Forest System.

[FR Doc. 2014-22503 Filed 9-19-14; 8:45 am]

BILLING CODE 3411-15-P